DEPARTMENT OF AGRICULTURE

Forest Service

Lake Tahoe Basin Federal Advisory Committee

AGENCY: Forest Service, USDA.

ACTION: Notice of meeting.

SUMMARY: The Lake Tahoe Basin Federal Advisory Committee will hold a meeting on April 27, 2007 at the Incline Village General Improvement District boardroom, 893 Southwood Blvd., Incline Village, NV 89451. This Committee, established by the Secretary of Agriculture on December 15, 1998 (64 FR 2876), is chartered to provide advice to the Secretary on implementing the terms of the Federal Interagency Partnership on the Lake Tahoe Region and other matters raised by the Secretary.

DATES: The meeting will be held April 27, 2007, beginning at 1 p.m. and ending at 3 p.m.

ADDRESSES: The meeting will be held at the Incline Village General Improvement District boardroom, 893 Southwood Blvd., Incline Village, NV 89451.

FOR FURTHER INFORMATION CONTACT: Arla Hains, Lake Tahoe Basin Management Unit, Forest Service, 35 College Drive, South Lake Tahoe, CA 96150, (530) 543-2773.

SUPPLEMENTARY INFORMATION: Items to be covered on the agenda included: (1) Final recommendations for Southern Nevada Public Land Management Act (SNPLMA) Round 8 Capital projects and Science and Research themes; and, (2) Public Comment. All Lake Tahoe Basin Federal Advisory Committee meetings are open to the public. Interested citizens are encouraged to attend at the above address. Issues may be brought to the attention of the Committee during the open public comment period at the meeting or by filing written statements with the Secretary for the Committee before or after the meeting. Please refer any written comments to the Lake Tahoe Basin Management Unit at the contact address stated above.

This Federal Register notice will be published less than 15 calendar days based on these exceptional circumstances: (1) The April 12, 2007 meeting provided a public hearing on this topic; (2) LTFAC members confirmed that their constituents have been informed and this additional meeting further extends public notification on this topic; and (3) there will be timely meeting notification through the LTBMU Web site.

Dated: April 13, 2007.
Terri Marceron,
Forest Supervisor.

[FR Doc. 07-1935 Filed 4-18-07; 8:45 am]

BILLING CODE 3410-11-M